DEPARTMENT OF ENERGY

Federal Energy Regulatory Commission

[Project No. 1922-052]

Ketchikan Public Utilities, Alaska; Notice Soliciting Scoping Comments

Take notice that the following hydroelectric application has been filed with the Commission and is available for public inspection.

a. Type of Application: Subsequent Minor License.

b. Project No.: 1922-052.

c. Date Filed: October 27, 2022.

d. Applicant: Ketchikan Public Utilities (KPU).

e. Name of Project: Beaver Falls Hydroelectric Project (project).

f. Location: On Beaver Falls Creek in Ketchikan Gateway Borough, Alaska. The project currently occupies 478.4 acres of United States lands administered by U.S. Forest Service.

g. Filed Pursuant to: Federal Power Act, 16 U.S.C. 791(a)-825(r).

h. Applicant Contact: Jennifer Holstrom, Senior Project Engineer, Ketchikan Public Utilities, 1065 Fair Street, Ketchikan, Alaska 99901; (907) 228-4733; or email at jenniferh@ktn-ak.us.

i. FERC Contact: Kristen Sinclair at (202) 502-6587, or kristen.sinclair@ferc.gov.

j. Deadline for filing scoping comments: August 10, 2023.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Beaver Falls Hydroelectric Project (P-1922-052).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. The application is not ready for environmental analysis at this time.

l. The existing Beaver Falls Project consists of two developments, Silvis and Beaver Falls. The Silvis development consists of: (1) a 60-foot-high, 135-foot-long concrete-face, rock-filled Upper Silvis Lake dam; (2) an 800-foot-long excavated rock spillway channel leading from Upper Silvis Lake to Lower Silvis Lake; (3) a 300-acre reservoir (Upper Silvis Lake) with gross storage capacity of approximately 38,000 acre-feet; (4) a 980-foot-long underground power tunnel connecting to a 342-foot-long, 36-inch-diameter steel penstock that conveys water to the Silvis Powerhouse; (5) a 30-feet by 40-feet by 25-feet-high Silvis powerhouse containing a single Francis-type turbine with a rated capacity of 2.1 megawatts; (6) a 150-foot-long trapezoidal shaped channel tailrace discharging into Lower Silvis Lake; (7) a 2,900-foot-long, 5-kilovolt submarine cable beneath Lower Silvis Lake; (8) a 7,000-foot-long, 34.5- kilovolt aerial transmission line; and (9) appurtenant facilities.

The Beaver Falls development consists of: (1) a 32-foot-high, 140-foot-long concrete-face, rock-filled Lower Silvis dam; (2) a spillway with an ungated control weir and unlined rock discharge channel; (3) a 67.5-acre reservoir (Lower Silvis Lake) with gross storage capacity of approximately 8,052 acre-feet; (4) a 3-foot-high, 40-foot-long concrete diversion dam on Beaver Falls Creek; (5) a 3,800-foot-long underground power tunnel connecting to a 3,610-foot-long above ground steel penstock that conveys water from Lower Silvis Lake to the Beaver Falls powerhouse and supplies water to Units 3 and 4 in the powerhouse; (6) a 225-foot-long adit that taps the 3,800-foot-long underground power tunnel and discharges water into Beaver Falls Creek approximately 500-feet upstream of the Beaver Falls diversion dam; (7) a 4,170-foot-long above ground steel penstock that conveys water from the Beaver Falls Creek diversion dam to the Beaver Falls powerhouse and supplies Unit 1 in the powerhouse; (8) a 30-feet by 147-feet by 25-feet-high Beaver Falls powerhouse containing three horizontal Pelton generating units with a total installed capacity of 5 MW (Units 1, 3 and 4; Unit 2 is decommissioned); (9) a Beaver Falls substation; and (10) appurtenant facilities. The project generates an annual average of 54,711,280 megawatt-hours.

KPU operates the project in peaking mode utilizing a combination of river inflow and storage in the reservoirs to meet the power demands of the City of Ketchikan (particularly in the summer). Upper Silvis Lake provides the primary storage for the project.

KPU proposes to continue operating the project in peaking mode with no new developments or modifications to its existing facilities or operation.

KPU also proposes to remove 77 acres of land from the Beaver Falls project boundary to more closely align with the footprint of its facilities and maintenance needs. KPU's proposed Beaver Falls project boundary would include 408.8 acres of land within Tongass National Forest, and approximately 14.2 acres of Federal lands subject to FPA Section 24, for a total of 423 acres.

m. At this time, the Commission has suspended access to the Commission's Public Reference Room. Copies of the application can be viewed on the Commission's website at https://www.ferc.gov using the “eLibrary” link. Enter the project's docket number excluding the last three digits in the docket number field to access the document. For assistance, contact FERC Online Support at FERCOnlineSupport@ferc.gov.

You may also register at https://ferconline.ferc.gov/FERCOnline.aspx to be notified via email of new filings and issuances related to this or other pending projects. For assistance, please contact FERC Online Support at FERCOnlineSupport@ferc.gov.

n. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

o. Scoping Process

Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS. At this time, we do not anticipate holding an on-site scoping meeting. Instead, we are soliciting written comments and suggestions on the preliminary list of issues and alternatives to be addressed in the NEPA document, as described in scoping document 1 (SD1), issued July 11, 2023.

Copies of the SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: July 11, 2023.
Kimberly D. Bose,
Secretary.

[FR Doc. 2023-15081 Filed 7-14-23; 8:45 am]

BILLING CODE 6717-01-P